DEPARTMENT OF THE TREASURY

Federal Benefit Payments Under Certain District of Columbia Retirement Plans

AGENCY: Department of the Treasury, Departmental Offices.

ACTION: Notice.

SUMMARY: The Department of the Treasury is delaying the effective date of its final regulations that would have established the methodology for determining the amount of Federal Benefit Payments under the provisions of the Balanced Budget Act of 1997, as amended (Act). The Act assigns the Secretary of the Treasury responsibility for payment of benefits under the District of Columbia (District) retirement plans for police and firefighters, and teachers for benefits based on credit for service accrued as of June 30, 1997, and under the District retirement plan for judges.

FOR FURTHER INFORMATION CONTACT: Harold L. Siegelman, (202) 622-1540, Department of the Treasury, Metropolitan Square Building, Room 6033, 15th and Pennsylvania Avenue, NW, Washington, DC 20220.

SUPPLEMENTARY INFORMATION: In its notice of December 12, 2000, 65 FR 77500, the Department of the Treasury stated that final regulations concerning the methodology for determining Federal Benefit Payments (to be codified at 31 CFR 29.102(a)(3) and subpart C of part 29) would be effective when the automated pension replacement system being developed by Treasury becomes operational, which was expected to occur on March 31, 2001. Subsequently, to provide enhanced benefits to users and annuitants, Treasury decided to acquire an upgraded version of the replacement system software. This decision, coupled with the need to accommodate integration of the replacement system with systems implementation schedules of the government of the District of Columbia, protracted the implementation schedule for Treasury's replacement system. Because Treasury cannot establish at this time with reasonable certainty a date on which the automated pension replacement system will be operational, Treasury is postponing indefinitely the effective date of the regulations to be codified at 31 CFR 29.102(a)(3) and subpart C of part 29. Treasury will provide written notice in the Federal Register at least 30 days in advance of the effective date of these regulations.

Department of The Treasury.
James J. Flyzik.
Acting Assistant Secretary of the Treasury.

[FR Doc. 01-7694 Filed 3-28-01; 8:45 am]

BILLING CODE 4810-25-P